DEPARTMENT OF HEALTH AND HUMAN SERVICES

Centers for Disease Control and Prevention

[Program Announcement 01153]

Expansion of Prevention, Care and HIV/AIDS Surveillance With the Ministry of Public Health in the Kingdom of Thailand; Notice of Availability of Funds

Correction

A notice announcing the availability of fiscal year (FY) 2001 funds for a cooperative agreement program for expansion of prevention, care and HIV/AIDS surveillance with the Ministry of Public Health in the Kingdom of Thailand, was published in the Federal Register on July 16, 2001, [Vol. 66, No. 136, Pages 37036-37038]. The notice is corrected as follows:

On page 37038, First Column, Under Section C. Availability of Funds, remove: “Funds received from this announcement may not be used for the direct purchase of antiretroviral drugs for treatment of established HIV infection (with the exception of nevirapin in PMTCT cases and with prior written approval), occupational exposures, and non-occupational exposures and will not be used for the purchase of machines and reagents to conduct the necessary laboratory monitoring for patient care.” and add in its place “The purchase of antiretrovirals, reagents, and laboratory equipment for antiretroviral treatment projects requires pre-approval from the Global AIDS Program headquarters.”

On page 37038, First Column, Under Section E. Availability of Funds, remove: “1. Alterations and Renovations: Unallowable. 2. Customs and Import Duties: Unallowable. This includes consular fees, customs surtax, value added taxes, and other related charges.”

Dated: May 26, 2002.
Sandra R. Manning,
CGFM, Director, Procurement and Grants Office, Center for Disease Control and Prevention (CDC).

[FR Doc. 02-13780 Filed 5-31-02; 8:45 am]

BILLING CODE 4163-18-P